DEPARTMENT OF THE INTERIOR

Bureau of Indian Affairs

Indian Gaming

AGENCY: Bureau of Indian Affairs, Interior.

ACTION: Notice of Tribal-State Class III Gaming Compact Amendment taking effect.

SUMMARY: This notice publishes the Amendment to the Tribal-State Gaming Compact between the State of California and the Shingle Springs Band of Miwok Indians taking effect.

DATES: Effective Date: December 12, 2008.

FOR FURTHER INFORMATION CONTACT: Paula L. Hart, Acting Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment reduces the number of gaming establishments the Tribe may operate; increases the number of gaming machines; and extends the term of the Compact to December 31, 2029. This Amendment is considered to have been approved but only to the extent that the Amendment is consistent with the provisions of the Indian Gaming Regulatory Act.

Dated: November 28, 2008.
George T. Skibine,
Acting Deputy Assistant Secretary for Policy and Economic Development.

[FR Doc. E8-29500 Filed 12-11-08; 8:45 am]

BILLING CODE 4310-4N-P